DEPARTMENT OF HEALTH AND HUMAN SERVICES

National Institute for Occupational Safety and Health; Final Effect of Designation of a Class of Employees for Addition to the Special Exposure Cohort

AGENCY: National Institute for Occupational Safety and Health (NIOSH), Department of Health and Human Services (HHS).

ACTION: Notice.

SUMMARY: The Department of Health and Human Services (HHS) gives notice concerning the final effect of the HHS decision to designate a class of employees at the Los Alamos National Laboratory, Los Alamos, New Mexico, as an addition to the Special Exposure Cohort (SEC) under the Energy Employees Occupational Illness Compensation Program Act of 2000. On November 9, 2006, as provided for under 42 U.S.C. 7834q(b), the Secretary of HHS designated the following class of employees as an addition to the SEC:

Employees of the Department of Energy predecessor agencies and their contractors or subcontractors who were monitored or should have been monitored for exposure to ionizing radiation associated with radioactive lanthanum (RaLa) operations at Technical Area 10 (Bayo Canyon Site), Technical Area 35 (Ten Site), and Buildings H, Sigma, and U (located within Technical Area 1) at the Alamos National Laboratory (LANL) for a number of work days aggregating at least 250 work days during the period from September 1, 1944 through July 18, 1963, or in combination with work days within the parameters established for one or more other classes of employees in the SEC.

This designation became effective on December 9, 2006, as provided for under 42 U.S.C. 7834l(14)(C). Hence, beginning on December 9, 2006, members of this class of employees, defined as reported in this notice, became members of the Special Exposure Cohort.

FOR FURTHER INFORMATION CONTACT: Larry Ellicott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

John Howard,
Director, National Institute for Occupational Safety and Health.

[FR Doc. 06-9876 Filed 12-26-06; 8:45 am]

BILLING CODE 4163-19-M